COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add products to the Procurement List that will be furnished by nonprofit agencies employing persons who are blind or have other severe disabilities.

DATES: Comments must be received on or before: August 9, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below the nonprofit identified.

The following products are proposed for addition to the Procurement List for production by the nonprofit agencies listed:

Products

NSN(s)—Product Name(s):

8415-00-NIB-1374—Face Covering/Mask, Universally Sized, Olive Green, PG/5

8415-00-NIB-1375—Face Covering/Mask, Universally Sized, Brown, PG/5

8415-00-NIB-1376—Face Covering/Mask, Universally Sized, Tan, PG/5

8415-00-NIB-1378—Face Covering/Mask, Universally Sized, Camo, PG/5

8415-00-NIB-1379—Face Covering/Mask, Universally Sized, Black, PG/5

8415-00-NIB-1380—Face Covering/Mask, Universally Sized, Olive Green, PG/50

8415-00-NIB-1381—Face Covering/Mask, Universally Sized, Brown, PG/50

8415-00-NIB-1382—Face Covering/Mask, Universally Sized, Tan, PG/50

8415-00-NIB-1383—Face Covering/Mask, Universally Sized, Camo, PG/50

8415-00-NIB-1384—Face Covering/Mask, Universally Sized, Black, PG/50

Mandatory Source of Supply: Winston-Salem Industries for the Blind, Inc., Winston-Salem, NC; Industries of the Blind, Inc., Greensboro, NC; Blind Industries & Services of Maryland, Baltimore, MD; Alphapointe, Kansas City, MO; Southeastern Kentucky Rehabilitation Industries, Inc., Corbin, KY

Mandatory For: Broad Government Requirement. The designated mandatory sources of supply will annually produce up to 28,960 packages (5 masks per package) for each of the NSNs 8415-00-NIB-1374 through 8415-00-NIB-1379, and up to 2,896 packages for each of the NSNs 8415-00-NIB-1380 through 8415-00-NIB-1384 (50 masks per package).

Contracting Activity: COMMITTEE FOR PURCHASE FROM PEOPLE WHO ARE BLIND OR SEVERELY DISABLED

Michael R. Jurkowski,
Deputy Director, Business & PL Operations.

[FR Doc. 2020-14899 Filed 7-9-20; 8:45 am]

BILLING CODE 6353-01-P